DEPARTMENT OF THE TREASURY

Internal Revenue Service

26 CFR Parts 1 and 301

[REG-105316-98; REG-161424-01]

RIN 1545-AW67; 1545-BA43

Information Reporting for Qualified Tuition and Related Expenses; Magnetic Media Filing Requirements for Information Returns; Correction

AGENCY: Internal Revenue Service (IRS), Treasury.

ACTION: Correction to proposed regulations.

SUMMARY: This document contains a correction to proposed regulations (REG-105316-98; REG-161424-01) which were published in the Federal Register on Monday, April 29, 2002 (67 FR 20923). The proposed regulations relate to the information reporting requirements under section 6050S for payments of interest on qualified education loans, including the filing of information returns on magnetic media.

FOR FURTHER INFORMATION CONTACT: Guy R. Traynor, Regulations Unit, (202) 622-7180 (not a toll-free number).

SUPPLEMENTARY INFORMATION:

Background

The proposed regulations that are subject to this correction are under section 6050 of the Internal Revenue Code.

Need for Correction

As published, these proposed regulations (REG-105316-98; REG-161424-01) contain an error that may prove to be misleading and is in need of clarification.

Correction of Publication

Accordingly, the publication of proposed regulations (REG-105316-98; REG-161424-01) which were the subject of FR Doc. 02-9932, is corrected as follows:

§ 1.6050S-1 [Corrected]

1. On page 20931, column 3, § 1.6050S-1(b)(2)(vii), Example 4. (iii), line 14, the language “2004. Under paragraph (b)(2)(v) of this” is corrected to read “2003. Under paragraph (b)(2)(v) of this''.

Guy R. Traynor,
Federal Register Certifying Officer, Regulations Unit, Associate Chief Counsel, (Income Tax & Accounting).

[FR Doc. 02-13171 Filed 5-29-02; 8:45 am]

BILLING CODE 4830-01-P